DEPARTMENT OF ENERGY

[Docket Nos. EA-261-A and EA-263-A]

Applications To Export Electric Energy; UBS AG, London Branch

AGENCY: Office of Fossil Energy, DOE.

ACTION: Notice of applications.

SUMMARY: Under separate applications, UBS AG, London Branch (UBS) has applied to renew its authority to transmit electric energy from the United States to Mexico and from the United States to Canada pursuant to section 202(e) of the Federal Power Act.

DATES: Comments, protests or requests to intervene must be submitted on or before June 25, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. § 824a(e)).

On June 3, 2002, the Office of Fossil Energy (FE) of the Department of Energy (DOE) issued Order No. EA-261 authorizing UBS to transmit electric energy from the United States to Mexico as a power marketer using existing international electric transmission facilities. That two-year authorization will expire on June 3, 2004. On June 4, 2002, FE issued Order No. EA-263 authorizing UBS to transmit electric energy from the United States to Canada as a power marketer using existing international electric transmission facilities. That two-year authorization will expire on June 4, 2004.

On April 30, 2004, the FE received applications from UBS to renew its authorizations to transmit electric energy from the United States to Mexico and from the United States to Canada for terms of five years. UBS, a Swiss corporation formed in 1998 by the merger of Union Bank of Switzerland and Swiss Bank Corporation, is a power marketer that does not own or control any electric generation or transmission facilities nor does it have any franchised service territory in the United States.

In FE Docket No. EA-261-A, UBS proposes to export electric energy to Mexico and to arrange for the delivery of those exports to Mexico over the international transmission facilities owned by San Diego Gas and Electric Company, El Paso Electric Company, Central Power and Light Company, and Comision Federal de Electricidad (CFE), the national electric utility of Mexico.

In FE Docket No. EA-263-A, UBS proposes to export electric energy to Canada and to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by UBS, as more fully described in the applications, has previously been authorized by a Presidential permit issued pursuant to Executive Order 10485, as amended.

Procedural Matters: Any person desiring to become a party to these proceedings or to be heard by filing comments or protests to these applications should file a petition to intervene, comment or protest at the address provided above in accordance with §§ 385.211 or 385.214 of the FERC's Rules of Practice and Procedures (18 CFR 385.211, 385.214). Fifteen copies of each petition and protest should be filed with the DOE on or before the dates listed above.

Comments on the UBS applications to export electric energy to Mexico and/or Canada should be clearly marked with Docket EA-261-A and/or Docket EA-263-A, respectively. Additional copies are to be filed directly with Andrea M. Settanni, Bracewell & Patterson, L.L.P., 2000 K Street, NW., Suite 500, Washington, DC 20006-1872 AND Suzanne Calcagno, Director, Regulatory Compliance, UBS Energy LLC, 677 Washington Blvd., 8th Floor, Stamford, CT 06901.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on May 20, 2004.
Anthony J. Como,
Deputy Director, Electric Power Regulation, Office of Coal & Power Import/Export, Office of Coal & Power Systems, Office of Fossil Energy.

[FR Doc. 04-11905 Filed 5-25-04; 8:45 am]

BILLING CODE 6450-01-P